DEPARTMENT OF THE INTERIOR

Fish and Wildlife Service

[FWS-R4-ES-2016-N112; FXES11130400000C2-167-FF04E00000]

Endangered and Threatened Wildlife and Plants; Technical/Agency Draft Recovery Plan for the Yellowcheek Darter

AGENCY: Fish and Wildlife Service, Interior.

ACTION: Notice of availability and request for public comment.

SUMMARY: We, the Fish and Wildlife Service (Service), announce the availability of the technical/agency draft recovery plan for the endangered yellowcheek darter, a fish. The draft recovery plan includes specific recovery objectives and criteria that must be met in order for us to reclassify this species to threatened status and ultimately delist it under the Endangered Species Act of 1973, as amended (Act). We request review and comment on this draft recovery plan from local, State, and Federal agencies, and the public.

DATES: In order to be considered, comments on the draft recovery plan must be received on or before May 5, 2017.

ADDRESSES: Reviewing documents: If you wish to review this technical/agency draft recovery plan, you may obtain a copy by contacting Melvin Tobin, U.S. Fish and Wildlife Service, Arkansas Ecological Services Field Office, 110 S. Amity Road, Suite 300, Conway, AR 72032; tel. 501-513-4473; or by visiting the Service's Arkansas Field Office Web site at http://www.fws.gov/arkansas-es.

Submitting comments: If you wish to comment, you may submit your comments by one of the following methods:

1. You may submit written comments and materials to us, at the above address.

2. You may hand-deliver written comments to our Arkansas Field Office, at the above address, or fax them to 501-513-4480.

3. You may send comments by email to Melvin_Tobin@fws.gov. Please include “Yellowcheek Darter Draft Recovery Plan Comments” on the subject line.

For additional information about submitting comments, see Request for Public Comments below.

FOR FURTHER INFORMATION CONTACT: Melvin Tobin (see ADDRESSES).

SUPPLEMENTARY INFORMATION:

Background

The Act requires the development of recovery plans for listed species, unless such a plan would not promote the conservation of a particular species. Recovery plans describe actions considered necessary for conservation of the species, establish criteria for reclassification to threatened or delisting, and estimate time and cost for implementing recovery measures. Section 4(f) of the Act requires us to provide public notice and an opportunity for public review and comment during recovery plan development. We will consider all information presented during a public comment period prior to approval of each new or revised recovery plan. We and other Federal agencies will take these comments into account in the course of implementing approved recovery plans.

About the Species

We listed the yellowcheek darter (Etheostoma moorei) as endangered under the Act (16 U.S.C. 1531 et seq.) on August 9, 2011 (76 FR 48722). A total of 102 river miles (164 rkm) in four streams (Middle, South, Archey, and Devils forks of the Little Red River) in Cleburne, Searcy, Stone, and Van Buren Counties, Arkansas was designated as critical habitat on October 16, 2012 (77 FR 63604).

The yellowcheek darter grows to 2.5 inches (6.4 cm) total length and is endemic to the Devils, Middle, South, and Archey forks of the Little Red River and the mainstem Little Red River in Arkansas. The species inhabits high-gradient headwater tributaries with clear water, permanent flow, moderate to strong riffles, and gravel, cobble, and boulder substrates (Robison and Buchanan 1988). Prey items consumed by the yellowcheek darter include blackfly larvae, stoneflies, mayflies, and other aquatic insects.

Threats

The yellowcheek darter is threatened primarily by factors associated with the present destruction, modification, or curtailment of its habitat or range. Threats include impoundment, sedimentation, poor livestock grazing practices, improper timber harvest practices, nutrient enrichment, gravel mining, channelization/channel instability, and natural gas development. Climate change is also likely to have adverse effects on the species due to alteration of hydrologic cycles of headwater streams that support the yellowcheek darter, but the extent or magnitude of this threat has not been quantified at this time.

We have assigned the yellowcheek darter a recovery priority number of 2C (48 FR 43098), which reflects a high degree of threat, and a high recovery potential.

Recovery Plan Components

The ultimate goal of this recovery plan is to ensure the long-term viability of the yellowcheek darter in the wild to the point that it can be delisted from the Federal List of Endangered and Threatened Wildlife (50 CFR 17.11). Initially, the goal is to reclassify the yellowcheek darter from endangered to threatened status based upon its improved status due to the implementation of recovery actions in this plan.

Recovery Criteria

Reclassification from endangered to threatened status: The yellowcheek darter will be considered for reclassification to threatened when (1) water quality and quantity in the Middle, South, and either Archey or Devils Forks, as defined by the best available science (to be refined by recovery actions), supports the long-term survival of yellowcheek darter in its natural environment (based on Safe Harbor enrollment and private landowner conservation efforts); (2) streams where the yellowcheek darter occurs contain sufficient geomorphically stable channels with relatively silt-free, moderate to strong velocity riffles with gravel cobble and boulder substrates that support adequate macroinvertebrate prey items; (3) healthy, self-sustaining (evident by multiple age classes of individuals, including naturally recruited juveniles and recruitment rates exceeding mortality rates) natural populations of yellowcheek darter are maintained in three of four tributaries (Middle, South, and either Archey or Devils Forks) at stable or increasing levels for 15 years (based on surveys conducted every three years via standard protocol); and (4) a captive breeding propagation, augmentation and reintroduction plan has been established, and a contingency plan is in place to ensure the survival of the species should a catastrophic event affect portions of a wild population.

Delisting: The yellowcheek darter will be considered for removal from the List of Endangered and Threatened Wildlife when (1) the reclassification criteria have been realized and demonstrated as being effective via monitoring efforts; (2) yellowcheek darter populations in the Middle, South, and either Archey or Devils Forks continue to be self-sustaining, stable or increasing, as defined by the best available science (to be refined by recovery actions), for an additional 15 years beyond reclassification to threatened status; and (3) commitments are in place to maintain conservation measures and recovered status.

Request for Public Comments

We request written comments on the draft recovery plan. We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533 (f).

Dated: January 24, 2017.
Mike Oetker,
Acting Regional Director, Southeast Region.

[FR Doc. 2017-04279 Filed 3-3-17; 8:45 am]

BILLING CODE 4310-55-P